ENVIRONMENTAL PROTECTION AGENCY

[ER-FRL-9010-8]

Environmental Impacts Statements; Notice of Availability

Responsible Agency: Office of Federal Activities, General Information (202) 564-7146 or http://www.epa.gov/compliance/nepa/

Weekly receipt of Environmental Impact Statements Filed 08/19/2013 through 08/23/2013

Pursuant to 40 CFR 1506.9.

Notice

Section 309(a) of the Clean Air Act requires that EPA make public its comments on EISs issued by other Federal agencies. EPA's comment letters on EISs are available at: http://www.epa.gov/compliance/nepa/eisdata.html

EIS No. 20130250, Draft EIS, USACE, FL, Central Everglades Planning Project, Comment Period Ends: 10/15/2013, Contact: Gretchen Ehlinger 904 232-1682.

EIS No. 20130251, Final EIS, USFS, MN, BWCAW Non-native Invasive Plant Management Project, Review Period Ends: 10/15/2013, Contact: Jack Greenlee 218-229-8817.

EIS No. 20130252, Final EIS, USN, CA, Hawaii-Southern California Training and Testing, Review Period Ends: 09/30/2013, Contact: Cory Scott 808-472-1420.

EIS No. 20130253, Final EIS, USN, 00, Atlantic Fleet Training and Testing, Review Period Ends: 09/30/2013, Contact: Lesley Dobbins 757-322-4645.

EIS No. 20130254, Draft EIS, USFS, UT, Smiths Fork Vegetation Restoration Project, Comment Period Ends: 10/15/2013, Contact: Pete Gomben 801-999-2182.

EIS No. 20130255, Draft EIS, NOAA, 00, Amendment 7 to the 2006 Consolidated Atlantic Highly Migratory Species (HMS) Fishery Management Plan (FMP), Comment Period Ends: 10/23/2013, Contact: Thomas A Warren 978-281-9260.

Amended Notices

EIS No. 20130087, Draft EIS, BLM, NM, TriCounty Resource Management Plan, Comment Period Ends: 09/12/2013, Contact: Jennifer Montoya 575-525-4316.

Revision to FR Notice Published 04/12/2013; Extending Comment Period from 07/11/2013 to 09/12/2013.

Dated: August 27, 2013.
Cliff Rader,
Director, NEPA Compliance Division, Office of Federal Activities.

[FR Doc. 2013-21276 Filed 8-29-13; 8:45 am]

BILLING CODE 6560-50-P